DEPARTMENT OF COMMERCE

National Oceanic and Atmospheric Administration

RIN 0648-XV35

Endangered and Threatened Species; Take of Anadromous Fish

AGENCY: National Marine Fisheries Service (NMFS), National Oceanic and Atmospheric Administration (NOAA), Commerce.

ACTION: Receipt of applications for scientific research permits; request for comments.

SUMMARY: Notice is hereby given that NMFS has received applications for permits for scientific research from National Resource Scientists, Inc. (NRSI) in Red Bluff, CA (14685, 14688), and California Department of Fish and Game (CDFG), North Central Region 2, in Rancho Cordova, CA (14808). This notice is relevant to federally endangered Sacramento River winter-run Chinook salmon (Oncorhynchus tshawytscha), threatened Central Valley spring-run Chinook salmon (O. tshawytscha), threatened Central Valley steelhead (O. mykiss), and threatened Southern Distinct Population Segment of North American green sturgeon (Acipenser medirostris). This document serves to notify the public of the availability of the permit applications for review and comment.

DATES: Written comments on the permit applications must be received no later than 5 p.m. Pacific Standard Time on April 23, 2010.

ADDRESSES: Written comments on the permit applications should be sent to the appropriate office as indicated below. Comments may also be sent via e-mail to: FRNpermitsSAC@noaa.gov or fax to the number indicated for the request. The applications and related documents are available for review by appointment: Protected Resources Division, NMFS, 650 Capitol Mall, Suite 8-300, Sacramento, CA 95814 (ph: 916-930-3600, fax: 916-930-3629).

FOR FURTHER INFORMATION CONTACT: Shirley Witalis at phone number 916-930-3606, or e-mail: FRNpermitsSAC@noaa.gov.

SUPPLEMENTARY INFORMATION:

Authority

Issuance of permits and permit modifications, as required by the Endangered Species Act of 1973 (16 U.S.C. 1531 1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to federally-listed endangered Sacramento River winter-run Chinook salmon (Oncorhynchus tshawytscha), threatened Central Valley spring-run Chinook salmon (O. tshawytscha) ESU, threatened Central Valley steelhead (O. mykiss), threatened Central California Coast steelhead (O. mykiss), and threatened Southern Distinct Population of North American green sturgeon (Acipenser medirostris).

Applications Received

NRSI requests a 5-year permit (14685) for an estimated annual take of 20 adult and 100 juvenile Central Valley steelhead associated with the Merced River salmonid monitoring program. The program researches anadromous salmonid spawning and rearing habitats, migration timing of adult Chinook salmon, and juvenile Chinook salmon outmigration and survival in the lower Merced River. NRSI proposes to monitor fish by conducting snorkel surveys, and employing Didson sonar cameras into fish weirs. NRSI proposes to capture fish by rotary screw trap and beach seine, anesthesize and sample fish for species identification, tags, marks and fin clips, lengths and weights, and release back to the river. NRSI requests authorization for an estimated total take of 100 adults and 500 juveniles (with an estimated total of 10 percent non-intentional mortality). NRSI does not propose to kill any fish being captured but some trapped fish may die as an unintentional result of research activities. No mortality is anticipated with passive monitoring.

NRSI requests a 2-year permit (14688) for an estimated annual take of 943 juvenile Sacramento River winter-run Chinook salmon, 97 Central Valley spring-run Chinook salmon, 56 Central Valley steelhead, and 125 Southern Distinct Population Segment of North American green sturgeon at five irrigation diversion sites (river miles [RMs] 88.2, 90.1, 102.5, 103.3, and 114.3) off the Sacramento River, CA. This research is part of an on-going investigation for developing prioritization criteria for fish screening projects, and will correlate fish entrainment with the physical, hydraulic, and habitat variables at each diversion site. NRSI proposes to use fyke nets to capture fish already entrained in diversion canals. Fish will be captured on the outfall side of pumped diversions and are expected to have been mortally injured by pressurized pipes and warm water, or lost to the water distribution systems. Dead and moribund fish will be identified to species/race, enumerated, measured, and placed back into the canals; any captured live fish will be immediately returned to the riverside of the diversion site. Daily sampling at each diversion site will be performed from April 1 through December 31, in 2010, and April 1 through December 31, 2011. NRS requests authorization for an estimated total take of 1,886 juvenile Sacramento River winter-run Chinook salmon, 194 juvenile Central Valley spring-run Chinook salmon, and 112 juvenile Central Valley steelhead and 250 juvenile North American green sturgeon.

CDFG requests a 5-year permit (14808) for an estimated annual take of 200 natural and 50 hatchery juvenile Sacramento River winter-run Chinook salmon, 700 natural juvenile Central Valley spring-run Chinook salmon and 28 natural and 112 hatchery juvenile Central Valley steelhead, associated with monitoring and research activities at Knights Landing (RM 88.5) on the mainstem Sacramento River, Central Valley, CA. The project will provide annual estimates of species abundance and migration run-timing to best address critical water management affecting salmonid out-migration routes. CDFG proposes to collect juvenile fish by paired rotary screw traps fishing continuously 24 hours per day, 7 days per week, from October 1 through June 30. Fish will be sampled for identification to species and life stage, counted, measured and weighed. All steelhead and non-adipose fin-clipped Chinook salmon will be released back into the river. Chinook salmon having an adipose fin-clip will be sacrificed for coded-wire tag collection. Collected data will be summarized to provide seasonal run-timing, abundance, and size distribution of salmonids in the Sacramento River before they enter the Sacramento-San Joaquin Delta. CDFG requests authorization for an estimated total take of 1,000 natural and 250 hatchery winter-run Chinook salmon juveniles, 3,500 natural spring-run Chinook salmon juveniles, and 140 natural and 560 hatchery Central Valley steelhead juveniles.

Dated: March 18, 2010.
Angela Somma,
Chief, Endangered Species Division, Office of Protected Resources, National Marine Fisheries Service.

[FR Doc. 2010-6539 Filed 3-23-10; 8:45 am]

BILLING CODE 3510-22-S